DEPARTMENT OF STATE

[Public Notice 6032]

Termination of Statutory Debarment and Reinstatement of Eligibility To Apply for Export/Retransfer Authorizations Pursuant to Section 38(g)(4) of the Arms Export Control Act, for Rotair Industries, Inc. (Rotair)

ACTION: Notice.

SUMMARY: Notice is hereby given that the Department of State has terminated the statutory debarment against Rotair pursuant to section 38(g)(4) of the Arms Export Control Act (AECA) (22 U.S.C. 2778(g)(4)).

DATES: Effective Date: December 7, 2007.

FOR FURTHER INFORMATION CONTACT: David C. Trimble, Director Office of Defense Trade Controls Compliance, Directorate of Defense Trade Controls, Bureau of Political-Military Affairs, Department of State (202) 663-2807.

SUPPLEMENTARY INFORMATION: Section 38(g)(4) of the AECA (22 U.S.C. 2778) prohibits the issuance of export licenses to a person, if that person or any party to the export has been convicted of violating section 38 of the AECA and certain other U.S. criminal statutes enumerated at section 38(g)(1)(A) of the AECA. A person convicted of violating the AECA is also subject to statutory debarment under section 127.7 of the ITAR.

In July 2004, Rotair was convicted of violating the AECA and the ITAR (U.S. District Court, District of Connecticut, 3:04CR 149-JBA). Based on this conviction, Rotair was statutorily debarred pursuant to section 127.7 of the ITAR and, thus, prohibited from participating directly or indirectly in exports of defense articles and defense services. Notice of debarment was published in the Federal Register (70 FR 57349, September 30, 2005).

In accordance with section 38(g)(4) of the AECA, statutory debarment may be terminated after consultation with the other appropriate U.S. agencies and after a thorough review of the circumstances surrounding the conviction and a finding that appropriate steps have been taken to mitigate any law enforcement concerns. The Department of State, after consultation with other agencies, has determined that Rotair has taken appropriate steps to address the causes of the violations and to mitigate any law enforcement concerns. Therefore, the debarment against Rotair is rescinded, effective December 7, 2007. The effect of this action is that Rotair may participate without prejudice in the export of defense articles and defense services subject to Section 38 of the AECA and the ITAR.

Dated: December 7, 2007.
Frank J. Ruggiero,
Acting Assistant Secretary of State, Bureau of Political-Military Affairs, Department of State.

[FR Doc. E7-24637 Filed 12-18-07; 8:45 am]

BILLING CODE 4710-25-P